DEPARTMENT OF COMMERCE

International Trade Administration

[A-549-812]

Furfuryl Alcohol from Thailand: Notice of Extension of Time Limit for Preliminary Results of 2003-2004 Antidumping Administrative Review

AGENCY: Import Administration, International Trade Administration, Department of Commerce.

EFFECTIVE DATE: April 18, 2005.

FOR FURTHER INFORMATION CONTACT: Andrew Smith at (202) 482-1276, AD/CVD Operations, Office 1, Import Administration, International Trade Administration, U.S. Department of Commerce, 14th Street and Constitution Avenue, NW, Washington, DC 20230.

SUPPLEMENTARY INFORMATION:

Background

On August 30, 2004, the Department of Commerce (“the Department”) published a notice of initiation of administrative review of the antidumping duty order on furfuryl alcohol from Thailand covering the period July 1, 2003 through June 30, 2004. See Notice of Initiation of Antidumping and Countervailing Duty Administrative Reviews, 69 FR 52857 (August 30, 2004). On February 14, 2005, the Department published a notice of extension of time limit for the 2003-2004 preliminary results of antidumping administrative review. See Furfuryl Alcohol from Thailand: Notice of Extension of Time Limit for Preliminary Results of 2003-2004 Antidumping Administrative Review 70 FR 7469 (February 14, 2005). The preliminary results for this review are currently due no later than May 4, 2005.

Extension of Time Limit for Preliminary Results

Section 751(a)(3)(A) of the Tariff Act of 1930, as amended (“the Act”), requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

We are currently analyzing complicated sales and cost information that has required numerous supplemental questionnaire responses. In particular, our analysis of the allocation of input costs, indirect selling expenses, and credit expenses requires additional time and makes it impracticable to complete the preliminary results of this review within the originally anticipated time limit (i.e., May 4, 2005). Therefore, the Department is extending the time limit for completion of the preliminary results to no later than August 1, 2005, in accordance with section 751(a)(3)(A) of the Act. The deadline for the final results of this administrative review continues to be 120 days after the publication of the preliminary results.

We are issuing and publishing this notice in accordance with sections 751(a)(1) and 777(i)(1) of the Act.

Dated: April 12, 2005.
Barbara E. Tillman,
Acting Deputy Assistant Secretary for Import Administration.

[FR Doc. E5-1810 Filed 4-15-05; 8:45 am]

BILLING CODE 3510-DS-S